DEPARTMENT OF LABOR

Mine Safety and Health Administration

Petition for Modification

The following party has filed a petition to modify the application of an existing safety standard under section 101(c) of the Federal Mine Safety and Health Act of 1977 and 30 CFR part 44.

Monterey Coal Company

[Docket No. M-2006-066-C]

Monterey Coal Company, 14300 Brushy Mound Road, Carlinville, Illinois 62626 has filed a petition to modify the application of 30 CFR 75.364(b)(1) (Weekly examination) to its No. 1 Mine (MSHA I.D. No. 11-00726) located in Macoupin County, Illinois. The petitioner requests a modification of the existing standard to allow evaluation points to be used to examine inaccessible areas of the air courses in the same proximate location where the ventilating air enters and exits the inaccessible areas. The petitioner proposes to install an automatic sensing system at the exit points. The petitioner states that: (1) The inaccessible areas of the affected air course have numerous falls up to 50 feet high; (2) rehabilitation of an entry or removal of stoppings to make parallel entries common will be hazardous to miners due to unstable roof conditions; and (3) use of evaluation points and automatic sensors to examine these areas will provide a safe method of examination in the air courses. The petitioner asserts that the proposed alternative method would provide at least the same measure of protection as the existing standard.

Request for Comments

Persons interested in these petitions are encouraged to submit comments via e-mail to Standards-Petitions@dol.gov. Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before November 2, 2006. Copies of the petitions are available for inspection at that address.

Dated at Arlington, Virginia, this 27th day of September 2006.
Cherie A. Hutchison,
Acting Director, Office of Standards, Regulations, and Variances.

[FR Doc. E6-16308 Filed 10-2-06; 8:45 am]

BILLING CODE 4510-43-P